DEPARTMENT OF TRANSPORTATION

Federal Aviation Administration

14 CFR Part 39

[Docket No. 2001-NE-50-AD; Amendment 39-12623; AD 2002-01-28]

RIN 2120-AA64

Airworthiness Directives; Dowty Aerospace Propellers Type R334/4-82-F/13 Propeller Assemblies

AGENCY: Federal Aviation Administration, DOT.

ACTION: Final rule; request for comments.

SUMMARY: This amendment adopts a new airworthiness directive (AD) that is applicable to Dowty Aerospace Propellers Type R334/4-82-F/13 with propeller hub assemblies, part number (P/N) 660709201. This action requires a one-time ultrasonic inspection of the propeller hub for cracks. This amendment is prompted by a report of an in-flight loss of a propeller. The actions specified in this AD are intended to prevent propeller hub failure due to cracks in the hub, which could result in loss of control of the airplane.

DATES: Effective February 14, 2002. The incorporation by reference of certain publications listed in the rule is approved by the Director of the Federal Register as of February 14, 2002.

Comments for inclusion in the Rules Docket must be received on or before April 1, 2002.

ADDRESSES: Submit comments to the Federal Aviation Administration (FAA), New England Region, Office of the Regional Counsel, Attention: Rules Docket No. 2001-NE-50-AD, 12 New England Executive Park, Burlington, MA 01803-5299. Comments may be inspected at this location, by appointment, between 8 a.m. and 4:30 p.m., Monday through Friday, except Federal holidays. Comments may also be sent via the Internet using the following address: “9-ane-adcomment@faa.gov”.

The service information referenced in this AD may be obtained from Dowty Propellers, Anson Business Park, Cheltenham Road East, Gloucester GL2 9QN, UK; telephone 44 (0) 1452 716000; fax 44 (0) 1452 716001. This information may be examined, by appointment, at the FAA, New England Region, Office of the Regional Counsel, 12 New England Executive Park, Burlington, MA; or at the Office of the Federal Register, 800 North Capitol Street, NW., suite 700, Washington, DC.

FOR FURTHER INFORMATION CONTACT: Frank Walsh, Aerospace Engineer, Boston Aircraft Certification Office, FAA, Engine and Propeller Directorate, 12 New England Executive Park, Burlington, MA 01803-5299; telephone (781) 238-7158; fax (781) 238-7199.

SUPPLEMENTARY INFORMATION: The Civil Aviation Authority (CAA), which is the airworthiness authority for the United Kingdom (UK), recently notified the FAA that an unsafe condition may exist on Dowty Aerospace Propellers Type R334/4-82-F/13 with propeller hub assemblies, P/N 660709201. On September 23, 2001, a complete R334/4-82-F/13 propeller separated from the engine flange on a Construcciones Aeronauticas, S.A. (CASA) 212 airplane. Laboratory analysis of the retained portion of the hub indicated that fatigue cracks had emanated from multiple origins in five of the eight insert bolt hole locations of the rear half of the hub wall. These fatigue cracks propagated outward in a radial direction relative to the axis of the threaded insert. The fatigue cracks then intersected the spigot diameter and the center bore hole of the hub. The remainder of the hub fracture resulted from fatigue cracks propagating circumferential to hub failure and release. The CAA also advised the FAA that the CAA received a report of a similar incident on another CASA airplane. The incident date was not provided, but the CAA indicated that it was within the past 1 ½ to 2 year period.

Manufacturer's Service Information

Dowty Aerospace Propellers has issued Service Bulletin (SB) No. 61-1119, Revision 2, dated December 6, 2001, that specifies procedures for ultrasonic inspection of the rear wall of the rear half of the propeller hub for cracks. The CAA classified this service bulletin as mandatory and issued CAA UK AD No. 003-11-2001, dated November 30, 2001, in order to assure the airworthiness of these Dowty Aerospace Propellers in the UK.

Differences Between This AD and the Manufacturer's Service Information

Although Appendix A of Dowty Aerospace Propellers SB No. 61-1119, Revision 2, dated December 6, 2001, requires reporting the inspection data to Dowty Aerospace Propellers, this AD requires that the data be reported to the Boston Aircraft Certification Office of the FAA.

Bilateral Airworthiness Agreement

This propeller model is manufactured in the UK and is type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, has reviewed all available information, and has determined that AD action is necessary for products of this type design that are certificated for operation in the United States.

FAA's Determination of an Unsafe Condition and Required Actions

Since an unsafe condition has been identified that is likely to exist or develop on other Dowty Aerospace Propellers Type R334/4-82-F/13 with propeller hub assemblies, P/N 660709201, this AD is being issued to prevent propeller hub failure due to cracks in the hub, which could result in loss of control of the airplane. This AD requires a one-time ultrasonic inspection of the rear wall of the rear half of the propeller hub for cracks. The actions must be done in accordance with the service bulletin described previously.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. Comments sent via the Internet must contain the docket number in the subject line. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2001-NE-50-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-01-28 Dowty Aerospace Propellers: Amendment 39-12623. Docket No. 2001-NE-50-AD.

Applicability

This airworthiness directive (AD) is applicable to Dowty Aerospace Propellers, Type R334/4-82-F/13, with propeller hub assemblies, part number (P/N) 660709201. These propeller hub assemblies are installed on, but not limited to, Construcciones Aeronauticas, S.A. (CASA) 212 airplanes.

Note 1: This AD applies to each propeller identified in the preceding applicability provision, regardless of whether it has been modified, altered, or repaired in the area subject to the requirements of this AD. For propellers that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent propeller hub failure due to cracks in the hub, which could result in loss of control of the airplane, do the following:

Hub Inspection

(a) Within 50 flight hours time-in-service (TIS) after the effective date of this AD, or within 60 days after the effective date of this AD, whichever occurs earlier, perform an ultrasonic inspection of the rear wall of the rear half of the propeller hub for cracks in accordance with Appendix A of Dowty Aerospace Propellers Service Bulletin (SB) No. 61-1119, Revision 2, dated December 6, 2001.

Inspection Reporting Requirements

(b) Record the initial inspection data on a copy of Appendix B, of Dowty Aerospace Propellers SB No. 61-1119, Revision 2, dated December 6, 2001, and report the findings to the Manager, Boston Aircraft Certification Office (ACO), FAA, Engine and Propeller Directorate, 12 New England Executive Park, Burlington, MA 01803-5299 within 10 days after the inspection. Reporting requirements have been approved by the Office of Management and Budget (OMB) and assigned OMB control number 2120-0056.

Alternative Methods of Compliance

(c) An alternative method of compliance or adjustment of the compliance time that provides an acceptable level of safety may be used if approved by the Manager, Boston ACO. Operators must submit their requests through an appropriate FAA Principal Maintenance Inspector, who may add comments and then send it to the Manager, Boston ACO.

Note 2: Information concerning the existence of approved alternative methods of compliance with this airworthiness directive, if any, may be obtained from the Boston ACO.

Special Flight Permits

(d) Special flight permits may be issued in accordance with §§ 21.197 and 21.199 of the Federal Aviation Regulations (14 CFR 21.197 and 21.199) to operate the airplane to a location where the requirements of this AD can be done.

Documents That Have Been Incorporated By Reference

(e) The inspection must be done in accordance with the following Dowty Aerospace Propellers service bulletin (SB):

Document No. | Pages | Revision | Date
SB No. 61-1119 | 1-2 | 2 | December 6, 2001
Appendix A | 1 | 1 | November 27, 2001.
| 2 | Original | November 1, 2001.
| 3-6 | 1 | November 27, 2001.
Appendix B | All | Original | November 1, 2001.
Appendix C | All | Original | November 27, 2001.
Appendix D | All | Original | December 6, 2001.
Total pages: 29

This incorporation by reference was approved by the Director of the Federal Register in accordance with 5 U.S.C. 552(a) and 1 CFR part 51. Copies may be obtained from Dowty Propellers, Anson Business Park, Cheltenham Road East, Gloucester GL2 9QN, UK; telephone 44 (0) 1452 716000; fax 44 (0) 1452 716001. This information may be examined, by appointment, at the FAA, New England Region, Office of the Regional Counsel, 12 New England Executive Park, Burlington, MA; or at the Office of the Federal Register, 800 North Capitol Street, NW, suite 700, Washington, DC.

Note 3: The subject of this AD is addressed in Civil Aviation Authority airworthiness directive AD 003-11-2001 dated November 30, 2001.

(f) This amendment becomes effective on February 14, 2002.

Issued in Burlington, Massachusetts, on January 18, 2002.
Thomas A. Boudreau,
Acting Manager, Engine and Propeller Directorate, Aircraft Certification Service.

[FR Doc. 02-1983 Filed 1-29-02; 8:45 am]

BILLING CODE 4910-13-U